DEPARTMENT OF THE TREASURY

Office of Thrift Supervision

Savings Association Holding Company Report H-(b)11

AGENCY: Office of Thrift Supervision (OTS), Treasury.

ACTION: Notice and request for comment.

SUMMARY: The proposed information collection request (ICR) described below has been submitted to the Office of Management and Budget (OMB) for review and approval, as required by the Paperwork Reduction Act of 1995. OTS is soliciting public comments on the proposal.

DATES: Submit written comments on or before July 26, 2010. A copy of this ICR, with applicable supporting documentation, can be obtained from RegInfo.gov at http://www.reginfo.gov/public/do/PRAMain.

FOR FURTHER INFORMATION CONTACT: For further information or to obtain a copy of the submission to OMB, please contact Ira L. Mills at, ira.mills@ots.treas.gov (202) 906-6531, or facsimile number (202) 906-6518, Regulations and Legislation Division, Chief Counsel's Office, Office of Thrift Supervision, 1700 G Street, NW., Washington, DC 20552.

SUPPLEMENTARY INFORMATION: OTS may not conduct or sponsor an information collection, and respondents are not required to respond to an information collection, unless the information collection displays a currently valid OMB control number. As part of the approval process, we invite comments on the following information collection.

Title of Proposal: Savings Association Holding Company Report H-(b)11

OMB Number: 1550-0060.

Form Number: OTS Form H-(b)11.

Regulation requirement: 12 CFR 584.1.

Description: Section 10(b) of the Home Owners' Loan Act and 12 CFR 584.1(a)(2) provide that each savings and loan holding company is required to file an annual report H-(b)11 within 90 days of the end of its fiscal year. Quarterly filings are also required within 45 days of the end of the first three fiscal quarters, and should describe any material changes from the most recently filed H-(b)11. If material changes have occurred during the fourth quarter, an H-(b)11 filing must be filed within 45 days of the end of the holding company's fiscal fourth quarter as well. The information gathered is essential for OTS to monitor whether savings and loan holding companies are in compliance with applicable statutes, regulations, and conditions of approval to acquire an insured savings association.

Type of Review: Revision of a currently approved collection.

Affected Public: Business or other for-profit.

Estimated Number of Respondents: 951.

Estimated Burden Hours per Response: 2 hours.

Estimated Frequency of Response: On occasion; quarterly; other.

Estimated Total Burden: 7,608 hours.

Clearance Officer: Ira L. Mills, (202) 906-6531, Office of Thrift Supervision, 1700 G Street, NW., Washington, DC 20552.

Dated: June 21, 2010.
Ira L. Mills,
Paperwork Clearance Officer, Office of Chief Counsel, Office of Thrift Supervision.

[FR Doc. 2010-15343 Filed 6-23-10; 8:45 am]

BILLING CODE 6720-01-P